DEPARTMENT OF TRANSPORTATION

National Highway Traffic Safety Administration

[Docket No. NHTSA-2015—0069]

School Bus Occupant Protection: Taking Safety to a New Level Meeting

AGENCY: National Highway Traffic Safety Administration (NHTSA), Department of Transportation (DOT).

ACTION: Notice of public meeting.

SUMMARY: The National Highway Traffic Safety Administration (NHTSA) is announcing a meeting that will be held in Washington, DC on July 23, 2015 to address the challenges and barriers that have prevented schools from taking action to install three-point seat belt systems in school buses. The workshop will include presentations and discussions on the topic. Information on the date, time, location, and framework for this public event is included in this notice. Attendance requires prior registration; there will be no registration at the door. There are no fees to register or to attend this event; however space is limited on a first-come basis. The meeting will also be webcast live at www.nhtsa.gov.

DATES: The workshop will be held on July 23, 2015, at the location indicated in the ADDRESSES section below. The workshop will start at 9:00 a.m. and is scheduled to continue until 4:15 p.m., local time. If you would like to register to attend the workshop, please contact the person identified under FOR FURTHER INFORMATION CONTACT no later than July 17, 2015.

ADDRESSES: The July 23, 2015 meeting will be held in the Media Center of the U.S. Department of Transportation, 1200 New Jersey Avenue SE., Washington, DC 20590.

FOR FURTHER INFORMATION CONTACT: If you would like to attend the workshop, please contact Pei Lee by the date specified under DATES section above, at: Telephone (202) 366-1836; email address: pei.lee@dot.gov. Please provide her with the following information: Name, title, affiliation, address, email address, and telephone number, and indicate whether you require accommodations such as a sign language interpreter or translator. If you are not a U.S. citizen, also provide your country of citizenship, date of birth, title or position, and passport or diplomatic ID number, along with expiration date.

SUPPLEMENTARY INFORMATION: NHTSA is hosting a meeting to address the challenges and barriers that have prevented schools from taking action to install three-point seat belt systems in school buses.

This meeting will update the current state of knowledge regarding occupant protection technology on school buses, identify operational challenges, and explore new approaches for funding mechanisms. The meeting will explore topics such as seating capacity loss, which in the past has prevented many States and school districts from considering three-point belt systems as an option, communication strategies to reach parents and children, and new training programs that may be needed for bus drivers and students. Additionally, the National Transportation Safety Board has been invited to present on their findings and recommendations from investigations of school bus crashes.

Workshop Procedures. NHTSA will conduct the meeting informally. Thus, technical rules of evidence will not apply. The workshop will include brief presentations and breakout group discussions with representatives from NHTSA and school transportation officials. There will be opportunities for attendees to ask NHTSA and the speakers questions.

To attend this workshop, please register with NHTSA by the date specified under the DATES section above by sending the required information to the person listed in the FOR FURTHER INFORMATION CONTACT section. Registration is necessary for security and space limitation reasons. After registration, NHTSA will send attendees follow-up information regarding workshop day logistics (i.e., directions to the building, parking accommodations, etc.).

For security purposes, photo identification is required to enter the Department of Transportation building. To allow sufficient time to clear security and enter the building, NHTSA recommends that workshop participants arrive 30 to 60 minutes prior to the start of the event.

Authority: 49 U.S.C. 30182.

Issued on: July 1, 2015.
Mark R. Rosekind,
Administrator.

[FR Doc. 2015-16892 Filed 7-9-15; 8:45 am]

BILLING CODE 4910-59-P